DEPARTMENT OF TRANSPORTATION

Pipeline and Hazardous Materials Safety Administration

Office of Hazardous Material Safety; Notice of Delays in Processing of Exemption Applications

AGENCY: Pipeline and Hazardous Materials Safety Administration, DOT.

ACTION: List of applications delayed more than 180 days.

SUMMARY: In accordance with the requirements of 49 U.S.C. 5117(c), PHMSA is publishing the following list of exemption applications that have been in process for 180 days or more. The reason(s) for delay and the expected completion date for action on each application is provided in association with each identified application.

FOR FURTHER INFORMATION CONTACT: Delmer Billings, Office of Hazardous Materials Exemptions and Approvals, Pipeline and Hazardous Materials Safety Administration, U.S. Department of Transportation, 400 Seventh Street, SW., Washington, DC 20590-0001, (202) 366-4535.

Key to “Reason for Delay”

1. Awaiting additional information from applicant.

2. Extensive public comment under review.

3. Application is technically complex and is of significant impact or precedent-setting and requires extensive analysis.

4. Staff review delayed by other priority issues or volume of exemption applications.

Meaning of Application Number Suffixes

N—New application.

M—Modification request.

X—Renewal.

PM—Party to application with modification request.

Issued in Washington, DC, on June 28, 2005.
R. Ryan Posten,
Exemptions Program Officer, Office of Hazardous Materials Safety Exemptions & Approvals.

New Exemption Applications
Application No. | Applicant | Reason for delay | Estimated date of completion
13183-N | Becton Dickinson, Sandy, UT | 4 | 08/31/2005
13281-N | The Dow Chemical Company, Midland, MI | 4 | 08/31/2005
13266-N | Luxfer Gas Cylinders, Riverside, CA | 4 | 07/31/2005
13302-N | FIBA Technologies, Inc., Westboro, MA | 4 | 07/31/2005
13341-N | National Propane Gas Association, Washington, DC | 3 | 07/31/2005
13314-N | Sunoco Inc., Philadelphia, PA | 4 | 08/31/2005
13309-N | OPW Engineered Systems, Lebanon, OH | 4 | 08/31/2005
13347-N | ShipMate, Inc., Torrance, CA | 4 | 08/31/2005
13346-N | Stand-By-Systems, Inc., Dallas, TX | 1 | 07/31/2005
14037-N | Air Products & Chemicals, Inc., Allentown, PA | 4 | 08/31/2005
14038-N | Dow Chemical Company, Midland, MI | 1 | 08/31/2005
14010-N | Varsal, LLC, Warminster, PA | 4 | 08/31/2005
13999-N | Kompozit-Praha s.r.o., Dysina u Plzne, Czech Republic, CZ | 4 | 07/31/2005
13958-N | Department of Defense, Fort Eustis, VA | 1 | 08/31/2005
13957-N | T.L.C.C.I, Inc., Franklin, TN | 4 | 08/31/2005
13858-N | US Ecology Idaho, Inc. (USEI), Grand View, ID | 1 | 08/31/2005
13582-N | Linde Gas LLC (Linde), Independence, OH | 4 | 07/31/2005
13563-N | Applied Companies, Valencia, CA | 4 | 08/31/2005
13547-N | CP Industries, McKeesport, PA | 4 | 07/31/2005

Modification to Exemptions
Application No. | Applicant | Reason for delay | Estimated date of completion
7277-M | Structural Composites Industries, Pomona, CA | 4 | 08/31/2005
10019-M | Structural Composites Industries, Pomona, CA | 4 | 08/31/2005
10915-M | Luxfer Gas Cylinders (Composite Cylinder Division), Riverside, CA | 1 | 07/31/2005
10319-M | Amtrol, Inc., West Warwick, RI | 4 | 07/31/2005
13327-M | Hawk FRP LLC, Ardmore, OK | 1 | 07/31/2005
7774-M | Pipe Recovery Systems, Inc., Houston, TX | 4 | 08/31/2005
13488-M | FABER INDUSTRIES SPA, (U.S. Agent: Kaplan Industries, Maple Shade, NJ) | 4 | 08/31/2005
12988-M | Air Products & Chemicals, Inc., Allentown, PA | 4 | 08/31/2005
12284-M | The American Traffic Safety Services Assn. (ATSSA), Fredericksburg, VA | 1 | 07/31/2005
6263-M | Amtrol, Inc., West Warwick, RI | 4 | 08/31/2005
11579-M | Dyno Nobel, Inc., Salt Lake City, UT | 4 | 07/31/2005
11241-M | Rohm and Haas Co., Philadelphia, PA | 1 | 07/31/2005
7280-M | Department of Defense, Ft. Eustis, VA | 4 | 07/31/2005
10878-M | Tankcon FRP Inc., Boisbriand, Qc | 1, 3 | 08/31/2005
8162-M | Structural Composites Industries, Pomona, CA | 4 | 08/31/2005
8718-M | Structural Composites Industries, Pomona, CA | 4 | 08/31/2005

New Exemption Applications
Application No. | Applicant | Reason for delay | Estimated date of completion
9649-X | U.S. Department of Defense, Fort Eustis, VA | 1, 3 | 07/31/2005

[FR Doc. 05-13125 Filed 7-1-05; 8:45 am]

BILLING CODE 4910-60-M